DEPARTMENT OF HEALTH AND HUMAN SERVICES

Centers for Disease Control and Prevention

[30Day-11-11BD]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Fetal-Infant Mortality Review: Human Immunodeficiency Virus Prevention Methodology (FHPM)—New—National Center for HIV/AIDS, Viral Hepatitis, STD, and TB Prevention (NCHHSTP), Centers for Disease Control and Prevention (CDC).

Background and Brief Description

Despite advances in interventions to prevent mother-to-child transmission of Human Immunodeficiency Virus (HIV), including antiretroviral drugs, elective cesarean deliveries, and avoidance of breastfeeding, between 100 and 200 infants are perinatally infected with HIV in the United States each year. Many of these cases result from missed prevention opportunities, such as prenatal HIV testing, prenatal care, or antiretroviral prophylaxis.

The Fetal-Infant Mortality Review: Human Immunodeficiency Virus Prevention Methodology (FHPM) is designed to identify and address missed prevention opportunities at the community level. FHPM will be a CDC funded extramural project at 10 sites, conducted in partnership with the National Fetal and Infant Mortality Review Program, CityMatCH, and participating communities. Sites will be selected through a competitive application process, and funds will be administered through CityMatCH, which will also maintain the National FHPM Resource Center to provide training, technical assistance, and capacity building for selected sites. This will be the first program to approach perinatal HIV prevention using a community-based systems investigation and improvement strategy.

In order to address perinatal HIV transmission at the community level, FHPM has adapted the Fetal-Infant Mortality Review (FIMR) methodology. The FIMR methodology is an approach designed to lead to community-level improvements in infant health outcomes. The methodology consists of four steps: Data gathering, case review, community action, and changes in community systems.

FHPM has tailored this methodology to address perinatal HIV prevention. During FHPM's first stage, HIV-infected pregnant or recently postpartum women will be identified based on a pre-established case definition, and will be prioritized for community review. A maternal interview will then be conducted if consent is provided by the woman. Data collection can proceed using hospital records if there is no consent for an interview. After the data collection phase, a multidisciplinary case review team (CRT) will conduct a case review session.

Recommendations of the CRT will then be passed on to a Community Action Team (CAT), which will be a diverse, broad-based group of community leaders and representatives capable of defining and initiating changes in the local systems.

Each of the 10 FHPM sites will conduct 30 maternal interviews each year. De-identified FHPM data will be stored electronically at participating sites. CDC plans to launch the FIMR-HIV Data System (FHDS) in 2011, which will provide a centralized, web-based data system that can be utilized by all participating sites and partner organizations. CDC will not have access to any personal identifiable information that may be collected for the project.

Data collected by FHPM will primarily serve to inform and improve local health systems in order to prevent future perinatal HIV transmissions. This data will provide a clearer picture of the systems-level strengths and weaknesses in participating communities. There is no cost to participants other than their time. The total estimated annual burden hours are 450.

Estimate of Annualized Burden Table
Type of respondent | Form name | Number of respondents | Number of responses per respondent | Average burden response (in hours)
Pregnant or Recently Post-Partum HIV-infected Women | FIMR/HIV Maternal Interview Form | 300 | 1 | 1.5

Daniel L. Holcomb,
Reports Clearance Officer, Centers for Disease Control and Prevention.

[FR Doc. 2011-16554 Filed 6-30-11; 8:45 am]

BILLING CODE 4163-18-P